ENVIRONMENTAL PROTECTION AGENCY

[FRL-7268-6]

Proposed CERCLA Administrative Cost Recovery Settlement; C.F.H., Inc., Patrick G. Canonica, Carl Franson, Christopher Hickey, Lydall Filtration/Separation, Inc., Richard F. Atkinson, Beverly A. Atkinson, Saco River Industries, Inc., and Silvex, Inc., Rogers Fibre Mill Superfund Site, Bar Mills, Maine

AGENCY: Environmental Protection Agency.

ACTION: Notice of proposed settlement; request for public comment.

SUMMARY: In accordance with section 122(i) of the Comprehensive Environmental Response, Compensation, and Liability Act, as amended (“CERCLA”), 42 U.S.C. 9622(i), notice is hereby given of a proposed administrative settlement for recovery of past and projected future response costs concerning the Rogers Fibre Mill Superfund Site in Bar Mills, Maine with the following settling parties: C.F.H., Inc., Patrick G. Canonica, Carl Franson, Christopher Hickey, Lydall Filtration/Separation, Inc., Richard F. Atkinson, Beverly A. Atkinson, Saco River Industries, Inc., and Silvex, Inc. The settlement requires the settling parties to pay $300,000.00 to the Hazardous Substance Superfund. The settlement includes a covenant not to sue the settling parties pursuant to section 107(a) of CERCLA, 42 U.S.C. 9606 and 9607(a). For thirty (30) days following the date of publication of this notice, the Agency will receive written comments relating to the settlement. The Agency will consider all comments received and may modify or withdraw its consent to the settlement if comments received disclose facts or considerations which indicate that the settlement is inappropriate, improper, or inadequate.

The Agency's response to any comments received will be available for public inspection at One Congress Street, Boston, MA 02214-2023.

DATES: Comments must be submitted on or before September 27, 2002.

ADDRESSES: Comments should be addressed to the Regional Hearing Clerk, U.S. Environmental Protection Agency, Region I, One Congress Street, Suite 1100, Mailcode RAA, Boston, Massachusetts 02114-2023 and should refer to: In re: Rogers Fibre Mill Superfund Site, U.S. EPA Docket No. 1-2002-0008.

FOR FURTHER INFORMATION CONTACT: A copy of the proposed settlement may be obtained from John Beling, U.S. Environmental Protection Agency, Region I, Office of Environmental Stewardship, One Congress Street, Suite 1100, Mailcode SES, Boston, MA 02114-2023.

Dated: June 20, 2002.
Richard Cavagnero,
Acting Director, Office of Site Remediation & Restoration.

[FR Doc. 02-21939 Filed 8-27-02; 8:45 am]

BILLING CODE 6560-50-P